DEPARTMENT OF THE INTERIOR

Bureau of Land Management

[WY-957-02-1420-BJ]

Notice of Filing of Plats of Survey; Wyoming

AGENCY: Bureau of Land Management, Interior.

ACTION: Notice of filing of plats of survey, Wyoming.

SUMMARY: The Bureau of Land Management (BLM) has filed the plats of survey of the lands described below in the BLM Wyoming State Office, Cheyenne, Wyoming, on August 15, 2002.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat representing the dependent resurvey of Lots 37 and 38, and Tract 39, portions of the eat and north boundaries and the subdivisional lines, and the subdivision of sections 1 and 2, Township 14 North, Range 107 West, Sixth Principal Meridian, Wyoming, was accepted July 26, 2002.

The plat representing the dependent resurvey of portions of the Sixth Standard Parallel North, through Range 118 West, and the metes and bounds survey of Lot 9, section 35, Township 25 North, Range 118 West, Sixth Principal Meridian, Wyoming, was accepted July 26, 2002.

Copies of the preceding described plats are available to the public.

Dated: September 17, 2002.
John P. Lee,
Chief Cadastral Surveyor, Division of Support Services.

[FR Doc. 02-24279 Filed 9-24-02; 8:45 am]

BILLING CODE 4310-22-M